TENNESSEE VALLEY AUTHORITY

Programmatic Environmental Impact Statement on Reservoir Operating Policies

AGENCY: Tennessee Valley Authority.

ACTION: Notice of Intent.

SUMMARY: This notice is provided in accordance with the Council on Environmental Quality (CEQ) regulations (40 CFR parts 1500 to 1508) and the Tennessee Valley Authority (TVA) procedures implementing the National Environmental Policy Act. In response to recommendations from its citizen advisory group, the Regional Resource Stewardship Council, and other individuals and stakeholder groups, TVA is conducting a comprehensive reservoir operations study (ROS). The purpose of the ROS is to determine if changes in TVA's reservoir operating policies would produce greater overall public value. As part of the study, TVA will prepare a programmatic environmental impact statement (EIS). TVA will use the EIS process to elicit and prioritize the values and concerns of stakeholders; identify issues, trends, events, and tradeoffs affecting reservoir operating policies; formulate, evaluate, and compare alternative reservoir operating policies; provide opportunities for public review and comment; and ensure that any decision to change its operating policies reflect a full range of stakeholder input. Public comments are invited concerning both the scope of the environmental issues and the alternative operating policies that should be addressed in the EIS.

DATES: Comments on the scope of the issues and alternatives to be addressed in the EIS must be postmarked or e-mailed by April 26, 2002.

TO COMMENT ON THE STUDY OR FOR FURTHER INFORMATION CONTACT: David Nye, ROS Project Manager, Tennessee Valley Authority, 400 West Summit Hill Drive, WT 11A, Knoxville, Tennessee 37902-1499; call the TVA ROS EIS toll free number (1-888-882-7675); fax to 865-632-3146; or access the TVA web site at www.tva.com.

SUPPLEMENTARY INFORMATION:

Background

A wholly owned corporation of the U.S. Government, TVA was established by an act of Congress in 1933 to foster the social and economic welfare of the people of the Tennessee Valley region and to promote the wise use and development of the region's natural resources. Section 9a of the TVA Act provides the historical and legal context for TVA's reservoir operating policies. Added by Congress as an amendment in 1935, Section 9a directs TVA to manage the reservoir system primarily to promote navigation and control floods and, to the extent consistent with these purposes, for the generation of electricity.

In carrying out its mandate, TVA developed an integrated system that includes 49 dams and reservoirs; 48 of which were built on the Tennessee River and its tributaries and one, Great Falls, is located on a tributary of the Cumberland River. The dams and reservoirs, also referred to as projects, differ in age, size, and specific authorized purposes. Based on the authorized purpose(s), TVA dams and reservoirs fall into one of four groups: (1) Multipurpose tributary projects which provide seasonal stream flow regulation for flood control, navigation, and hydroelectric power generation; (2) multipurpose main Tennessee and Clinch River projects pass rainfall runoff, generate electric power, and maintain minimum levels for commercial navigation; (3) single purpose power projects which generate hydroelectric power; and (4) smaller non-power projects which provide local flood relief, water supply, water quality, and/or recreation.

The drainage area of the Tennessee River system covers about 41,000 square miles. This area includes 125 counties within much of Tennessee and parts of six other states: Alabama, Kentucky, Georgia, Mississippi, North Carolina, and Virginia. The larger TVA Power Service Area includes 201 counties and about 80,000 square mile in the same seven states.

TVA manages the reservoir system, which includes 14 navigation locks operated by the U.S. Army Corps of Engineers, to provide an 800-mile commercial navigation channel from the mouth of the Tennessee River at Paducah, Kentucky, to the headwaters of the Tennessee River at Knoxville, Tennessee, and downstream parts of the Clinch and Hiwassee Rivers. TVA maintains water levels sufficient to provide a minimum navigation channel depth of nine feet (with a two-foot overdraft) throughout this navigable waterway.

Thirteen multipurpose tributary projects, built to reduce the risk of flood damage along the river, are operated to regulate flood crests and store runoff for later hydroelectric generation. Powerhouses were built at 30 TVA dams, including its Raccoon Mountain Pumped-Storage Facility, which now provides approximately 5,000 megawatts of hydro generation capacity. Although the powerhouses were initially built to provide base-load capacity, the demand for power in the Tennessee Valley exceeded the hydropower capacity of the reservoir system during the 1950s. As fossil and nuclear base-load generating sources were added, operation of the hydro system was modified to take advantage of the versatility and dependability of hydropower to meet peak power demands and improve power system reliability. Today, depending on annual rainfall and runoff, the hydro system produces 10 to 15 percent of TVA's annual average system generation output.

The annual rainfall and runoff patterns in the Tennessee Valley govern the operation of the reservoir system. Operating guides, developed from long-term stream-flow records and project requirements and constraints, identify water levels that should be met in each reservoir at various times during the year. December through early April is the major flood season in the Tennessee Valley because storms tend to be larger and more runoff occurs during this part of the year. During this period, TVA tributary reservoirs are lowered to a minimum level to provide storage capacity that reduces the risk of flooding at major damage centers, including Chattanooga, Tennessee, and other communities along the Tennessee River and its tributaries while allowing for hydroelectric power production during periods of peak power demand. Beginning in April, when flood risks typically diminish, tributary reservoirs are allowed to fill to reach their summer recreation level by June 1. During June and July, drawdown of the tributary reservoirs is limited to maintaining downstream minimum flows, navigation channel depths, hydro power generation, cooling water for fossil and nuclear plants, and recreational benefits. Between August 1 and January 1, the reservoirs are drawn down to flood storage capacity levels based on the economic use of the water to meet power generation and water quality objectives.

In addition to the main objectives, TVA operates the dams and reservoirs as a truly integrated system for the benefit of the Valley to provide for such purposes as mosquito control, aquatic plant management, water quality, recreation, fish and wildlife habitat, municipal and industrial water supply, commercial and industrial development, and flows for power plant cooling.

TVA evaluated its reservoir operating policies in the late 1980s and, in February 1991, the TVA Board approved the Tennessee River and Reservoir System Operation and Planning Review EIS. Policy changes recommended in that EIS focused primarily on restricting lake level drawdown at multipurpose tributary projects to increase recreation opportunities and setting targets to improve water quality. The scope of the ROS EIS presently in progress will be more comprehensive in its approach and will evaluate all aspects of TVA's reservoir operating policies. The ROS EIS will identify and address alternative ways TVA could operate the reservoir system to use the available water in ways which would create greater value for stakeholders. Consistent with the recommendations of the Regional Resource Stewardship Council and other groups and individuals, the objectives of this study include but are not limited to:

• Clarify the values stakeholders have about the river and reservoir system;

• Identify key measures for judging future reservoir operating performance;

• Identify issues, trends, events, and tradeoffs which should be considered in formulating alternative reservoir operating policies;

• Develop clear reservoir operating policy alternatives not constrained by present operating policies;

• Provide factual information on the environmental, social, and economic effects of those alternatives; and

• Provide opportunities for stakeholders to actively participate in the process.

Preliminary Identification of Issues to Be Addressed

Based on internal and interagency discussions, TVA anticipates that the major issues to be addressed in the ROS EIS will be navigation, flood risk, power production, water quality, water supply, threatened and endangered species, wetlands, adjacent land use, recreation, and social and economic considerations. Issues related to air quality, climate, geology, groundwater, aquatic plants, invasive species, vector control, and terrestrial ecology also will be addressed; however, it is expected that these latter issues may not require detailed evaluation. This list of issues is preliminary and is intended to facilitate public comment on the scope of this EIS. It is not intended to be all-inclusive nor does it imply any predetermination of potential impacts. TVA invites suggestions concerning the list of issues which should be addressed.

The Proposed Action

The proposed action is to implement reservoir operation policies that create greater overall public value.

Alternatives

As required by CEQ regulations (40 CFR 1502.2(e)), TVA will evaluate a reasonable range of alternatives, including the present operating policies as a No Action Alternative. Alternatives will address TVA's major reservoir operating objectives—the purposes for which TVA manages the river and reservoir system. These include navigation, flood risk reduction, power production, water quality, water supply, recreation, and economic development. At this time, alternative reservoir operating policies are likely to include increasing or decreasing seasonal reservoir pool levels depending on hydrology and project constraints, and increasing or decreasing the timing and amount of releases from the reservoirs. For example, alternatives might include: (1) Extending or shortening drawdown dates for tributary projects to provide higher or lower reservoir pool levels, (2) increasing or decreasing the amount and duration of releases from TVA dams to provide increased minimum flows, (3) increasing or decreasing the depth of the commercial navigation channel, and (4) increasing or decreasing the amount of water in reservoir storage potentially affecting flood risk.

Water quality, flood risk, and weekly scheduling models of the reservoir system will be used to determine the flexibility of present reservoir operations and to maximize operating objectives with a minimum of constraints. Model results will be used to bracket the potential effects of the alternative operating policies evaluated in the EIS. The EIS will also present a review of the changes made in 1991, when the last evaluation of TVA's reservoir operating policies was conducted. That part of the study will provide a baseline for evaluating impacts of the alternatives selected for detailed analysis in this EIS. The results of the evaluation of specific alternatives on environmental, cultural, and socioeconomic resources, together with engineering and economic considerations, will be used to select a preferred alternative operating policy.

Scoping Process

CEQ regulations (40 CFR 1501.7) require the use of an early and open process for determining the scope of an EIS and for identifying the significant issues related to the proposed action. Scoping is integral to the EIS process. It is a procedure that solicits public input to ensure that: (1) All pertinent issues are identified early and properly studied; (2) issues of little significance do not consume substantial time and effort; (3) the draft EIS is thorough and balanced; and (4) delays caused by an inadequate EIS are avoided. To ensure that the full range of issues and alternatives related to this proposal are addressed, TVA invites Federal agencies, state and local governments, the general public, and others to comment on the scope of the ROS EIS. In addition to the Regional Resource Stewardship Council, TVA will also rely on individuals in a public review group and an interagency team, as well as selected external subject matter experts, for input to the study. Agencies invited to participate as part of the interagency team include U.S. Army Corps of Engineers; U.S. Fish and Wildlife Service; U.S. Forest Service; U.S. Coast Guard, National Weather Service, National Park Service, Native American Tribal representatives, a representative from each of the Valley states; and others.

TVA will hold 21 public information meetings about the ROS EIS at locations throughout the region between March 21 and April 18, 2002. The dates and locations of the information meetings will be posted on the ROS EIS web site (www.tva.com) and published in local and regional newspapers. Notices about these meetings will also be sent directly to members of the public who have previously indicated an interest in TVA's reservoir operating policy through attendance at public meetings and through correspondence with Congress and TVA. TVA will continue to develop and maintain a mailing list of individuals, agencies, organizations, and groups who have requested notices and updates of the ROS process. TVA will also maintain a public reference file at selected libraries across the region, which will include copies of all written correspondence, documents, meeting notices, agendas, and summaries.

After consideration of the comments received during this scoping period, TVA will develop and distribute a document which will summarize public and agency comments that were received, the issues and alternatives to be addressed in the EIS, and the schedule for completing the EIS process. The scoping document should be available in late spring 2002. It will be distributed to public libraries, loaded on the TVA EIS web site, and mailed out upon request.

After evaluating the issues and the potential environmental consequences of each alternative, TVA will issue a draft EIS for public review and comment. The draft EIS will be transmitted to the Environmental Protection Agency for publication of a Notice of Availability in the Federal Register. TVA will solicit written comments on the draft EIS and hold a series of public information meetings to receive comments. TVA plans to issue the draft EIS in spring 2003.

Dated: February 15, 2002.
Kathryn J. Jackson,
Executive Vice President, River System Operations & Environment.

[FR Doc. 02-4320 Filed 2-22-02; 8:45 am]

BILLING CODE 8120-08-U